DEPARTMENT OF HOUSING AND URBAN DEVELOPMENT

[Docket No. FR-7092-N 25; OMB Control No.: 2506-0215]

30-Day Notice of Proposed Information Collection: Housing Trust Fund

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: September 22, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Room 8210, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on May 2, 2025 at 90 FR 18863.

A. Overview of Information Collection

Title of Information Collection: Housing Trust Fund.

OMB Approval Number: 2506-0215.

Type of Request: Extension of a currently approved collection.

Form Number: HUD-27055.

Description of the need for the information and proposed use: The information collected through HUD's Integrated Disbursement and Information System (IDIS) (24 CFR 93.402) is used by HUD Field Offices, HUD Headquarters, and HTF grantees. The information on program funds committed and disbursed is used by HUD to track grantee performance and to determine compliance with the statutory 24-month commitment deadline (12 U.S.C. 4568(c)(10)(B) and 24 CFR 93.400(d)(1)) and the regulatory 5-year expenditure deadline (24 CFR 93.400(d)(2)). The project-specific property, tenant, owner, and financial data is used to make program management decisions about how well program participants and grantees are achieving the statutory objectives of the HTF Program. Program management reports are generated by IDIS to provide data on the status of grantees' commitment and disbursement of HTF funds. These reports are provided to HUD staff as well as to HTF grantees.

Financial, project, tenant and owner documentation are used to determine compliance with HTF Program cost limits (24 CFR 93.404), eligible activities (24 CFR 93.200), and eligible costs (24 CFR 93.201). Other information collected under 24 CFR part 93, subpart H (Other Federal Requirements) is primarily intended for local program management and is only viewed by HUD during routine monitoring visits. The written agreement with the owner that commits funds to a project (24 CFR 93.404) demonstrates an HTF grantee's compliance with requirements relating to commitments, project eligibility (24 CFR 93.200), tenant protections (24 CFR 93.303), and eligible costs (24 CFR 93.201), and is required to ensure that the HTF grantee and property owner comply with these important elements of the HTF program. Written agreements are reviewed by HUD during monitoring visits. HUD reviews all other data collection requirements during monitoring to assure compliance with the requirements of the Act and other related laws and authorities.

HUD tracks grantee performance and compliance with the requirements of 24 CFR parts 91 and 93. Grantees use the required information in the execution of their program, and to gauge their own performance in relation to stated goals.

Information collection | Number of respondents | Frequency of response | Responses per annum | Burden hour per response | Annual burden hours | Hourly cost per response | Annual cost
§ 93.100(a) Notification of intent to participate | 56.00 | 1.00 | 56.00 | 4.00 | 224.00 | $45.14 | 10,111.36
31 U.S.C. 3512—HUD Form 27055 | 56.00 | 1.00 | 56.00 | 0.50 | 28.00 | 45.14 | 1,263.92
§ 93.100(b) Submission of Consolidated Plan | 56.00 | 0.20 | 11.20 | 40.00 | 448.00 | 45.14 | 20,222.72
§ 91.220 Action Plan | 56.00 | 1.00 | 56.00 | 10.00 | 560.00 | 45.14 | 25,278.40
§ 93.101 Distribution of assistance | 56.00 | 1.00 | 56.00 | 4.00 | 224.00 | 45.14 | 10,111.36
§ 93.150(a) Site and Neighborhood Standards | 56.00 | 1.00 | 56.00 | 4.00 | 224.00 | 45.14 | 10,111.36
§ 93.150(b) New rental housing site and neighborhood requirements | 56.00 | 1.00 | 56.00 | 5.00 | 280.00 | 45.14 | 12,639.20
§ 93.200(b) Establishment of terms of assistance | 56.00 | 1.00 | 56.00 | 4.00 | 224.00 | 45.14 | 10,111.36
§ 93.200(d) Terminated projects | 1.00 | 1.00 | 1.00 | 20.00 | 20.00 | 45.14 | 902.80
§ 93.201(b)(2) Establish refinancing guidelines | 56.00 | 1.00 | 56.00 | 4.00 | 224.00 | 45.14 | 10,111.36
§ 93.300(a) Establish maximum per-unit development subsidy amount | 56.00 | 1.00 | 56.00 | 4.00 | 224.00 | 45.14 | 10,111.36
§ 93.300(b) Underwriting and subsidy layering | 168.00 | 1.00 | 168.00 | 4.00 | 672.00 | 45.14 | 30,334.08
§ 93.301(a) Property standards—New construction | 56.00 | 1.00 | 56.00 | 3.00 | 168.00 | 45.14 | 7,583.52
§ 93.302(b) Establish rent limitations | 56.00 | 1.00 | 56.00 | 4.00 | 224.00 | 45.14 | 10,111.36
§ 93.302(c) Establish utility allowance | 56.00 | 1.00 | 56.00 | 4.00 | 224.00 | 45.14 | 10,111.36
§ 93.302(d)(1) Establish affordability requirements | 56.00 | 1.00 | 56.00 | 4.00 | 224.00 | 45.14 | 10,111.36
§ 93.302(d)(3) Establish preemptive procedures before foreclosure | 56.00 | 1.00 | 56.00 | 4.00 | 224.00 | 45.14 | 10,111.36
§ 93.302(e)(1) Initial income determination | 2,047.00 | 1.00 | 2,047.00 | 1.00 | 2,047.00 | 45.14 | 92,401.58
§ 93.302(e)(1) Annual income determination | 9,020.00 | 1.00 | 9,020.00 | 0.25 | 2,255.00 | 45.14 | 101,790.70
§ 93.350(a) Nondiscrimination and equal opportunity procedures | 56.00 | 1.00 | 56.00 | 8.00 | 448.00 | 45.14 | 20,222.72
§ 93.350(b)(1) Affirmative marketing procedures | 56.00 | 1.00 | 56.00 | 10.00 | 560.00 | 45.14 | 25,278.40
§ 93.351 Lead-based paint | 56.00 | 1.00 | 56.00 | 1.00 | 56.00 | 45.14 | 2,527.84
§ 93.352 Displacement, relocation, and acquisition procedures | 56.00 | 1.00 | 56.00 | 4.00 | 224.00 | 45.14 | 10,111.36
§ 93.353 Conflict of interest adjudication | 2.00 | 1.00 | 2.00 | 4.00 | 8.00 | 45.14 | 361.12
§ 93.354 Funding Accountability and Transparency Act | 56.00 | 12.00 | 672.00 | 1.00 | 672.00 | 45.14 | 30,334.08
§ 93.356(b) VAWA notification requirements | 56.00 | 1.00 | 56.00 | 4.00 | 224.00 | 45.14 | 10,111.36
§ 93.356(d) VAWA lease term/addendum | 56.00 | 1.00 | 56.00 | 4.00 | 224.00 | 45.14 | 10,111.36
§ 93.356(f) VAWA Emergency transfer plan | 56.00 | 1.00 | 56.00 | 4.00 | 224.00 | 45.14 | 10,111.36
§ 93.402(b)(1) IDIS—Project set-up | 168.00 | 1.00 | 168.00 | 1.00 | 168.00 | 45.14 | 7,583.52
§ 93.402(c)(1) IDIS—HTF drawdowns | 168.00 | 1.00 | 168.00 | 1.00 | 168.00 | 45.14 | 7,583.52
§ 93.402(d)(1) IDIS—Project completion | 168.00 | 1.00 | 168.00 | 1.00 | 168.00 | 45.14 | 7,583.52
§ 93.403(a) Program income administration | 56.00 | 1.00 | 56.00 | 4.00 | 224.00 | 45.14 | 10,111.36
§ 93.403(b)(1) Repayment for ineligible activities | 2.00 | 1.00 | 2.00 | 5.00 | 10.00 | 45.14 | 451.40
§ 93.404(b) Written agreement | 168.00 | 1.00 | 168.00 | 2.00 | 336.00 | 45.14 | 15,167.04
§ 93.404(d)(1) Project completion inspection | 168.00 | 1.00 | 168.00 | 2.00 | 336.00 | 45.14 | 15,167.04
§ 93.404(d)(2)(i) Onsite inspection upon completion | 560.00 | 1.00 | 560.00 | 2.00 | 1,120.00 | 45.14 | 50,556.80
§ 93.404(d)(2)(ii) Onsite inspections post completion | 504.00 | 1.00 | 504.00 | 2.00 | 1,008.00 | 45.14 | 45,501.12
§ 93.404(d)(2)(iv) Project owner annual certification | 168.00 | 1.00 | 168.00 | 2.00 | 336.00 | 45.14 | 15,167.04
§ 93.404(e) Annual financial oversight of 10 or more units | 168.00 | 1.00 | 168.00 | 2.00 | 336.00 | 45.14 | 15,167.04
§ 93.405 Uniform administrative requirements | 56.00 | 1.00 | 56.00 | 4.00 | 224.00 | 45.14 | 10,111.36
§ 93.406(a) Annual CFR 200 audit | 56.00 | 1.00 | 56.00 | 10.00 | 560.00 | 45.14 | 25,278.40
§ 93.407(a)(1) Program recordkeeping | 56.00 | 1.00 | 56.00 | 8.00 | 448.00 | 45.14 | 20,222.72
§ 93.407(a)(2) Project recordkeeping | 560.00 | 1.00 | 560.00 | 2.00 | 1,120.00 | 45.14 | 50,556.80
§ 93.407(a)(3) Financial recordkeeping | 56.00 | 12.00 | 672.00 | 2.00 | 1,344.00 | 45.14 | 60,668.16
§ 93.407(a)(4) Program administration records | 56.00 | 12.00 | 672.00 | 8.00 | 5,376.00 | 45.14 | 242,672.64
§ 93.407(a)(5) Records concerning other Federal requirements | 56.00 | 1.00 | 56.00 | 10.00 | 560.00 | 45.14 | 25,278.40
§ 93.408 Performance reports | 56.00 | 12.00 | 672.00 | 2.50 | 1,680.00 | 45.14 | 75,835.20
§ 93.451 Annual performance reviews | 56.00 | 1.00 | 56.00 | 8.00 | 448.00 | 45.14 | 20,222.72
Total | 15,832.00 |  | 18,251.20 |  | 27,328.00 |  | 1,233,585.92

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department Clearance Officer, Office of Policy Development and Research, Chief Data Officer.

[FR Doc. 2025-16086 Filed 8-21-25; 8:45 am]

BILLING CODE 4210-67-P